DEPARTMENT OF HOMELAND SECURITY

Transportation Security Administration

[Docket No. TSA-2009-0018]

Intent to Request Extension From OMB of One Current Public Collection of Information: Certified Cargo Screening Standard Security Program

AGENCY: Transportation Security Administration, DHS.

ACTION: 60-day notice.

SUMMARY: The Transportation Security Administration (TSA) invites public comment on one currently approved Information Collection Request (ICR), OMB control number 1652-0053, abstracted below that we will submit to the Office of Management and Budget (OMB) for an extension in compliance with the Paperwork Reduction Act. The ICR describes the nature of the information collection and its expected burden. The collections of information that make up this ICR include: (1) Applications from entities that wish to become Certified Cargo Screening Facilities (CCSFs), Third-Party Canine-Cargo (3PK9-C) Certifiers or Certified Cargo Screening Program-Canine (CCSP-K9) Holders; (2) personally identifiable information to allow TSA to conduct security threat assessments (STA) and/or Criminal History Records Check (CHRC) on certain individuals employed by the CCSFs, 3PK9-C Certifiers, Certified Cargo Screening Facilities-K9 (CCSF-K9) and those authorized to conduct 3PK9-C Program activities; (3) standard security program or submission of a proposed modified security program or amendment to a security program by CCSFs and CCSF-K9s or standards provided by TSA or submission of a proposed modified standard by 3PK9-C Certifiers; (4) recordkeeping requirements for CCSFs, CCSF-K9s and 3PK9-C Certifiers; (5) designation of a Security Coordinator (SC) by CCSP Holders, CCSP-K9 Holders and 3PK9-C Certifiers; and (6) significant security concerns detailing information of incidents, suspicious activities, and/or threat information by CCSP Holders, CCSP-K9 Holders and CCSP-K9 Holders. TSA is seeking an extension of this ICR for the continuation of the Certified Cargo Screening Program (CCSP) in order to secure passenger aircraft carrying cargo.

DATES: Send your comments by January 19, 2021.

ADDRESSES: Comments may be emailed to TSAPRA@dhs.gov or delivered to the TSA PRA Officer, Information Technology, TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

OMB Control Number 1652-0053, Certified Cargo Screening Standard Security Program, 49 CFR Parts 1515, 1540, 1544, 1546, 1548, and 1549. Section 1602 of The Implementing Recommendations of the 9/11 Commission Act of 2007 (Pub. L. 110-53, 121 Stat. 266, Aug. 3, 2007) (August 2007) (9/11 Act) required the development of a system to screen 100 percent of such cargo no later than August 2010. TSA currently requires 100 percent screening of all cargo transported on passenger aircraft.¹ The screening of air cargo must be in a manner approved by TSA and be commensurate with the level of security for the screening of passenger checked baggage.²

¹ See 49 CFR 1544.205(g) and 1546.205(g)(1).

² Id. See also 49 U.S.C. 44901(g)(2).

TSA's regulations in 49 CFR part 1549 for the Certified Cargo Screening Program (CCSP) support the 9/11 Act mandate by providing an alternative means of compliance with the 100% screening requirement. In order to comply with the statutory mandate, the CCSP allows shippers, indirect air carriers, and other entities to voluntarily participate in a program through which TSA certifies entities to screen air cargo off-airport before it is tendered to air carriers for transport on passenger aircraft. CCSFs may screen cargo off-airport and must implement measures to ensure a secure chain of custody from the point of screening to the point at which the cargo is tendered to the aircraft operator. The collection of information under the CCSP (see OMB number 1652-0053) are incorporated into this ICR.

As a signatory to the Convention on International Aviation, the United States has agreed to apply the standards contained in Annex 17 as promulgated by the International Civil Aviation Organization (ICAO). Amendment 14 of Annex 17 removed the distinction between passenger and cargo operations and now requires that all cargo be subject to security controls, including screening where practicable, on all commercial air transport operations.³ ICAO has provided until June 30, 2021 for member states to implement the above standard. When considering the current requirement to screen 100% of air cargo transported on passenger and all cargo aircraft, TSA expects that there will be an increase in demand for more options to mitigate the cost of screening cargo as the United States begins to build up and implement security controls to meet the June 30, 2021 deadline to implement Annex 17, Standard 4.6.1.

³ See Convention of International Civil Aviation, Amendment 14, Annex 17, Standard 4.6.1.

In the Spring 2020, OMB approved TSA's request to revise the ICR in response to changing conditions in the air cargo industry. Consistent with the need to expand screening capabilities to meet the ICAO standards that take effect in 2021, the TSA Modernization Act required TSA to develop a program for TSA to certify 3PK9-C Teams to screen air cargo.⁴ TSA incorporated this capability under the framework of the CCSP, providing an opportunity for canine team providers to choose to be regulated as CCSFs under 49 CFR part 1549 and approved to use Certified 3PK9-C Teams to screen cargo for TSA regulated entities.

⁴ See sec. 1941 of the FAA Reauthorization Act of 2019, Division K, Title I (Pub. L. 115-254; 132 Stat. 3186; Oct. 5, 2018).

All CCSFs are required to allow TSA to assess whether a person or entity meets the standards of the applicable security program requirements. A CCSF-K9 is an inherently mobile capability that can screen cargo at the facility owned and operated by one of TSA's regulated entities. As holders of a TSA-approved security program issued pursuant to 49 CFR part 1549, canine providers participating in this program can contract with air carriers and standard CCSFs to screen air cargo, on or off airport, with canine explosives detection teams certified as meeting TSA's standards. The 3PK9-C program approves third-party (non-governmental) certifiers, operating under the 3PK9-C Certifier Order, to evaluate canine teams to determine whether these teams meet the TSA certification standards.

Recognizing non-governmental entities to evaluate 3PK9-C Teams to determine whether these teams meet TSA's standards for the certification of explosives detection canine teams approved to screen air cargo serves two purposes. First, it ensures effective security. TSA must have confidence that the screening conducted by Certified 3PK9-C Teams will protect air cargo by identifying unauthorized explosives, incendiaries, and other destructive substances and protect the air cargo from the introduction of these destructive substances from the time the cargo is screened until it is accepted by an aircraft operator or a foreign air carrier for transport. To provide this confidence, TSA established uniform processes and standards for approval of 3PK9-C Certifiers, including qualification of personnel who will evaluate canine teams and consistent application of TSA's criteria for canine teams seeking certification or recertification as a Certified 3PK9-C Team. Second, the use of third-party certifiers allows for market-driven expansion of the program. As required by section 1941 of the TSA Modernization Act, no federal funds can be expended for the training or certification of canine teams operating under this program. As with the CCSF-K9s, qualified persons may apply to become a 3PK9-C Certifier. If approved, the 3PK9-C Certifier agrees to comply with an Order issued by TSA under the authority of 49 U.S.C. 46105.

There are three primary programs issued under 49 CFR part 1549 that ensure compliance with TSA's requirements by persons choosing to participate in the program: (1) The Certified Cargo Screening Security Program, applicable to facilities-based CCSFs; (2) the Certified Cargo Security Program-Canine, applicable to canine team providers; and (3) the 3PK9-C Certifier Order, applicable to third-party certifiers. The collections of information under the CCSP are incorporated into this ICR. The following are required to maintain participation under the programs available under the CCSP:

(1a) CCSF Applications. A CCSF and CCSF-K9 applicant is required to submit an application to become a CCSF at least 90 days before the intended date of operation. In addition, once certified as a CCSF, the CCSF is required to submit any changes to the application information as they occur. CCSFs must renew their certification every 36 months by submitting a new complete application. CCSF applicants are required to provide TSA access to their records, equipment, and facilities necessary for TSA to conduct an eligibility assessment. (49 CFR 1549.7). A CCSF-K9 applicant must also submit an Operational Implementation Plan (OIP), described within the CCSP-K9 and any changes to the plan information as they occur.

(1b) 3PK9-C Certifier Applications. TSA requires submission of initial applications, and updates to information in an application, by any person interested in being a 3PK9-C Certifier under the 3PK9-C Certifier Order.

(2a) STA Applications. TSA regulations require CCSF applicants to ensure that individuals performing cargo screening and related functions, and their supervisors have completed an STA conducted by TSA. In addition, TSA regulations require CCSF Security Coordinators and their alternates to successfully have completed an STA. TSA regulations further require these individuals to submit personally identifiable information so that TSA can perform STAs. See TSA Form 419F, previously approved under OMB control number 1652-0040 (49 CFR 1549.111 and 1549.103).

(2b) CHRC. TSA requires collection of personally identifiable information including fingerprints as necessary to conduct a CHRC from 3PK9-C Certifiers, CCSF-K9s, employees and authorized representatives, and those authorized to conduct 3PK9-C Program activities with unescorted access to a Security Identification Display Area, screening of air cargo, or carrying of explosives in the air cargo environment.

(3) Recordkeeping. TSA requires CCSFs, CCSF-K9s, (49 CFR 1549.105), and 3PK9-C Certifiers to maintain records of compliance and make them available for TSA inspection.

(4a) Security Programs. TSA requires CCSFs and CCSF-K9s to accept and operate under a standard security program provided by TSA, or submit a proposed modified security program or amendment(s) to the designated TSA official for approval initially and periodically thereafter as required (49 CFR 1549.7).

(4b) The 3PK9-C Certifier Order. TSA requires 3PK9-C Certifiers to accept standards provided by TSA, or submit a proposed modified standard to the designated TSA official for approval initially and periodically thereafter as required.

(5) Significant Security Concerns Information. TSA requires CCSP Holders, CCSP-K9 Holders, and 3PK9-C Certifiers to report to TSA incidents, suspicious activities, and/or threat information.

(6) Security Coordinator. TSA requires CCSP Holders, CCSP-K9 Holders, and 3PK9-C Certifiers to provide the name and contact information of the SC and one or more designated alternates at the corporate or ownership level.

Estimated Burden Hours

TSA estimates the annual respondents for CCSF, CCSP-K9, and 3PK9-C Certifier to be 2,527 and the total annual hour burden to be 16,189.98 hours.

Dated: November 12, 2020.
Christina A. Walsh,
TSA Paperwork Reduction Act Officer, Information Technology.

[FR Doc. 2020-25368 Filed 11-17-20; 8:45 am]

BILLING CODE 9110-05-P